DEPARTMENT OF ENERGY

Federal Energy Regulatory Commission

Combined Notice of Filings # 2

Take notice that the Commission received the following electric rate filings:

Docket Numbers: ER23-1825-000.

Applicants: Kentucky Power Company.

Description: § 205(d) Rate Filing: Revision to Reactive Rate Schedule No. 304 to be effective 7/1/2023.

Filed Date: 5/3/23.

Accession Number: 20230503-5145.

Comment Date: 5 p.m. ET 5/24/23.

Docket Numbers: ER23-1826-000.

Applicants: Cross-Sound Cable Company, LLC.

Description: § 205(d) Rate Filing: IROL-CIP Schedule 17 Cost Recovery to be effective 7/4/2023.

Filed Date: 5/4/23.

Accession Number: 20230504-5003.

Comment Date: 5 p.m. ET 5/25/23.

Docket Numbers: ER23-1827-000.

Applicants: Otter Tail Power Company.

Description: Tariff Amendment: Notice of Cancellation of Service Agreements for Remedial Action Scheme Service to be effective 5/31/2023.

Filed Date: 5/4/23.

Accession Number: 20230504-5041.

Comment Date: 5 p.m. ET 5/25/23.

Docket Numbers: ER23-1828-000.

Applicants: PJM Interconnection, L.L.C.

Description: § 205(d) Rate Filing: Revisions to Sch. 12-Appx A: April 2023 RTEP, 30-Day Comment Period Requested to be effective 8/2/2023.

Filed Date: 5/4/23.

Accession Number: 20230504-5048.

Comment Date: 5 p.m. ET 6/5/23.

Docket Numbers: ER23-1829-000.

Applicants: Shady Oaks Wind 2, LLC.

Description: Initial rate filing: Application for MBR Authorization w/Waivers & Expedited Treatment to be effective 5/5/2023.

Filed Date: 5/4/23.

Accession Number: 20230504-5093.

Comment Date: 5 p.m. ET 5/25/23.

Docket Numbers: ER23-1830-000.

Applicants: New England Power Company.

Description: § 205(d) Rate Filing: 2023-05-04 Filing of Eighth Revised New England Power Service Agreement No. 23 to be effective 5/5/2023.

Filed Date: 5/4/23.

Accession Number: 20230504-5096.

Comment Date: 5 p.m. ET 5/25/23.

Docket Numbers: ER23-1831-000.

Applicants: ISO New England Inc., New England Power Company.

Description: § 205(d) Rate Filing: ISO New England Inc. submits tariff filing per 35.13(a)(2)(iii: Fourth Revised TSA-NEP-86 Under Schedule 21-NEP to be effective 5/5/2023.

Filed Date: 5/4/23.

Accession Number: 20230504-5117.

Comment Date: 5 p.m. ET 5/25/23.

Take notice that the Commission received the following electric securities filings:

Docket Numbers: ES23-45-000.

Applicants: Tri-State Generation and Transmission Association, Inc.

Description: Application Under Section 204 of the Federal Power Act for Authorization to Issue Securities of Tri-State Generation and Transmission Association, Inc.

Filed Date: 5/3/23.

Accession Number: 20230503-5174.

Comment Date: 5 p.m. ET 5/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2023.
Debbie-Anne A. Reese,
Deputy Secretary.

[FR Doc. 2023-09956 Filed 5-9-23; 8:45 am]

BILLING CODE 6717-01-P